DEPARTMENT OF DEFENSE

Department of the Navy

Notice of Intent To Grant Exclusive Patent License; NanoArmor, LLC

AGENCY: Department of the Navy, DoD.

ACTION: Notice of availability for licensing.

SUMMARY: The Department of the Navy hereby gives notice of its intent to grant to NanoArmor, LLC., a revocable, nonassignable, exclusive license to practice in the field of use of ballistic strike plate or armor for wearable body armor, including but not limited to, ballistic and blast resistant panels for vehicles, including but not limited to, ballistic and blast resistant panelized building systems for shelters and buildings in the United States, the Government-owned invention described in U.S. Patent No. 7,722,851: Bulk Synthesis of Carbon Nanotubes from Metallic and Ethynyl Compounds, Navy Case No. 83,777.// U.S. Patent No. 6,846,345: Synthesis of Metal Nanoparticle Compositions from Metallic and Ethynyl Compounds, Navy Case No. 83,778.// U.S. Patent No. 7,819,938: Highly Aromatic Compounds and Polymers as Percursors to Carbon Nanotube and Metal Nanoparticle Compositions in Shaped Solids, Navy Case No. 96,675.// U.S. Patent No. 9,017,445: Highly Aromatic Compounds and Polymers as Precursors to Carbon Nanotube and Metal Nanoparticle Compositions in Shaped Solids, Navy Case No. 96,675.// U.S. Patent No. 9,085,720: Highly Aromatic Compounds and Polymers as Precursors to Carbon Nanotube and Metal Nanoparticle Compositions in Shaped Solids, Navy Case No. 96,675.// U.S. Patent No. 8,822,023: Refractory Metal Ceramics and Methods of Making Thereof, Navy Case No. 101,502.// U.S Patent No. 9,403,723: Refractory Metal Ceramics and Methods of Making Thereof, Navy Case No. 101,502.// U.S Patent No. 9,611,179: Refractory Metal Ceramics and Methods of Making Thereof, Navy Case No. 101,502.// U.S Patent No. 8,865,301: Refractory Metal Boride Ceramics and Methods of Making Thereof, Navy Case No. 101,684.// U.S. Patent No. 9,469,572: Refractory Metal Boride Ceramics and Methods Thereof, Navy Case No. 101,684.// U.S Patent No. 9,637,416: Refractory Metal Borides Ceramics and Methods of Making Thereof, Navy Case No. 101,684.// U.S Patent No. 8,815,381: Formation of Boron Carbide-Boron Nitride Carbon Compositions, Navy Case No. 101,874.// U.S. Patent No. 9,580,359: Formation of Boron Carbide-Boron Nitride Carbon Compositions, Navy Case No. 101,874.// U.S. Patent Application No. 15/429,767: Formation of Boron Carbide-Boron Nitride Carbon Compositions, Navy Case No. 101,874.// U.S. Patent No 8,778,488: Formation of Silicon Carbide-Silicon Nitride Nanoparticle Carbon Compositions, Navy Case No. 101,921.// U.S. Patent No. 9,045,374: Formation of Silicon Carbide-Silicon Nitride Nanoparticle Carbon Compositions, Navy Case No. 101,921.// U.S Patent No. 8,957,234: Acetylene and Diacetylene Compounds of Transition Metals, Navy Case No. 102,412.// U.S Patent Application No. 15/585,444: Refractory Metal Silicide Nanoparticle Ceramics, Navy Case No. 103,907.// U.S Patent Application No. 62/444,506: Synthesis of Bromophenylditriflate Intermediates as Precursors to Phenylethynyl Benzenes, Navy Case No. 104,262.// Navy Case 106,483: One Step Preparation of Nano-Crystalline Refractory Metal Carbides, Borides or Nitrides with Homogeneously Dispersed Inclusions and Layered Structures Thereof.// Navy Case No. 106,493: Synthesis of Pure Refractory Metal Nitrides and/or Metal Carbides with Nanocrystalline Grain Structure and any continuations, divisionals or re-issues thereof.

DATES: Anyone wishing to object to the grant of this license must file written objections along with supporting evidence, if any, not later than January 17, 2018.

ADDRESSES: Written objections are to be filed with the Naval Research Laboratory, Code 1004, 4555 Overlook Avenue SW, Washington, DC 20375-5320.

FOR FURTHER INFORMATION CONTACT: Amanda Horansky McKinney, Head, Technology Transfer Office, NRL Code 1004, 4555 Overlook Avenue SW, Washington, DC 20375-5320, telephone 202-767-1644. Due to U.S. Postal delays, please fax 202-404-7920, email: techtran@research.nrl.navy.mil or use courier delivery to expedite response.

Authority: 35 U.S.C. 207, 37 CFR part 404.

Dated: December 21, 2017.
E.K. Baldini,
Federal Register Liaison Officer, Lieutenant Commander, Judge Advocate General's Corps, U.S. Navy.

[FR Doc. 2017-28306 Filed 12-29-17; 8:45 am]

BILLING CODE 3810-FF-P